NUCLEAR REGULATORY COMMISSION

[Docket Nos. 50-277 and 50-278; NRC-2020-0110]

Issuance of Exemption in Response to COVID-19 Public Health Emergency

AGENCY: Nuclear Regulatory Commission.

ACTION: Exemption; issuance.

SUMMARY: The U.S. Nuclear Regulatory Commission (NRC) issued one exemption in October 2021 in response to a request from one licensee for relief due to the coronavirus 2019 disease (COVID-19) public health emergency (PHE). The exemption affords the licensee temporary relief from certain requirements under NRC regulations.

DATES: On October 13, 2021, the NRC granted one exemption in response to a request submitted by one licensee on September 17, 2021.

ADDRESSES: Please refer to Docket ID NRC-2020-0110 when contacting the NRC about the availability of information regarding this document. You may obtain publicly available information related to this document using any of the following methods:

• Federal Rulemaking website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

On October 13, 2021, the NRC granted one exemption in response to a request submitted by one licensee dated September 17, 2021. The exemption temporarily allows the licensee to deviate from certain requirements of chapter I of title 10 of the Code of Federal Regulations (10 CFR), part 26, “Fitness for Duty Programs,” section 26.205, “Work hours.”

The exemption from certain requirements of 10 CFR part 26 for Exelon Generation Company, LLC (for Peach Bottom Atomic Power Station, Units 2 and 3), affords this licensee temporary relief from the work-hour control requirements under 10 CFR 26.205(d)(1) through (d)(7). The exemption from 10 CFR 26.205(d)(1) through (d)(7) ensures that the control of work hours and management of worker fatigue does not unduly limit licensee flexibility in using personnel resources to most effectively manage the impacts of the COVID-19 PHE on maintaining the safe operation of this facility. Specifically, this licensee has stated that its staffing levels are affected or are expected to be affected by the COVID-19 PHE, and it can no longer meet or likely will not meet the work-hour controls of 10 CFR 26.205(d)(1) through (d)(7). This licensee has committed to effecting site-specific administrative controls for COVID-19 PHE fatigue-management for personnel specified in 10 CFR 26.4(a).

The table in this notice provides transparency regarding the number and type of exemptions the NRC has issued. Additionally, the NRC publishes tables of approved regulatory actions related to the COVID-19 PHE on its public website at https://www.nrc.gov/about-nrc/covid-19/reactors/licensing-actions.html.

II. Availability of Documents

The table in this notice provides the facility name, docket number, document description, and ADAMS accession number for the exemption issued. Additional details on the exemption issued, including the exemption request submitted by the licensee and the NRC's decision, are provided in the exemption approval listed in the following table. For additional directions on accessing information in ADAMS, see the ADDRESSES section of this document.

Peach Bottom Atomic Power Station, Units 2 and 3 Docket Nos. 50-277 and 50-278
Document description | ADAMS accession No.
Peach Bottom Atomic Power Station, Units 2 and 3—COVID-19 Related Request for Exemption from 10 CFR part 26 Work Hours Requirements, dated September 17, 2021 | ML21260A162
Peach Bottom Atomic Power Station, Units 2 and 3—Exemption from Specific Requirements of 10 CFR part 26 (EPID L-2021-LLE-0041 [COVID-19]), dated October 13, 2021 | ML21265A438

Dated: November 30, 2021.
For the Nuclear Regulatory Commission.
James G. Danna,
Chief, Plant Licensing Branch I, Division of Operating Reactor Licensing, Office of Nuclear Reactor Regulation.

[FR Doc. 2021-26407 Filed 12-3-21; 8:45 am]

BILLING CODE 7590-01-P